DEPARTMENT OF TRANSPORTATION

Federal Aviation Administration

14 CFR Part 39

[Docket No. FAA-2017-0688; Product Identifier 2017-NE-23-AD]

RIN 2120-AA64

Airworthiness Directives; Zodiac Seats France, Cabin Attendant Seats

AGENCY: Federal Aviation Administration (FAA), DOT.

ACTION: Notice of proposed rulemaking (NPRM).

SUMMARY: We propose to adopt a new airworthiness directive (AD) for certain Zodiac Seats France, 537 series cabin attendant seats. This proposed AD was prompted by operator reports that safety belt wear was found at the attachment to the cabin attendant seat. This proposed AD would require inspecting the safety belt webbing, and modifying and re-marking each affected cabin attendant seat. We are proposing this AD to correct the unsafe condition on these products.

DATES: We must receive comments on this NPRM by January 25, 2018.

ADDRESSES: You may send comments by any of the following methods:

• Federal eRulemaking Portal: Go to http://www.regulations.gov. Follow the instructions for submitting comments.

• Mail: Docket Management Facility, U.S. Department of Transportation, 1200 New Jersey Avenue SE., West Building Ground Floor, Room W12-140, Washington, DC 20590-0001.

• Hand Delivery: Deliver to Mail address above between 9 a.m. and 5 p.m., Monday through Friday, except Federal holidays.

• Fax: 202-493-2251.

For service information identified in this NPRM, contact Zodiac Seats France, Rue Robert Marechal Senior B.P. 69, 36100 Issoudun, France; phone: +33 (0) 9 70 83 08 30; fax: +33 (0) 2 54 03 39 00; email: zs.tac@zodiacaerospace.com; Internet: http://www.services.zodiacaerospace.com. You may view this service information at the FAA, Engine & Propeller Standards Branch, Policy and Innovation Division, 1200 District Avenue, Burlington, MA. For information on the availability of this material at the FAA, call 781-238-7125.

Examining the AD Docket

You may examine the AD docket on the Internet at http://www.regulations.gov by searching for and locating Docket No. FAA-2017-0688; or in person at the Docket Operations office between 9 a.m. and 5 p.m., Monday through Friday, except Federal holidays. The AD docket contains this proposed AD, the mandatory continuing airworthiness information (MCAI), the regulatory evaluation, any comments received, and other information. The address for the Docket Office (phone: 800-647-5527) is in the ADDRESSES section. Comments will be available in the AD docket shortly after receipt.

FOR FURTHER INFORMATION CONTACT: Dorie Resnik, Aerospace Engineer, FAA, Boston ACO Branch, Compliance and Airworthiness Division, 1200 District Avenue, Burlington, MA 01803; phone: 781-238-7693; fax: 781-238-7199; email: dorie.resnik@faa.gov.

SUPPLEMENTARY INFORMATION:

Comments Invited

We invite you to send any written relevant data, views, or arguments about this proposed AD. Send your comments to an address listed under the ADDRESSES section. Include “Docket No. FAA-2017-0688; Product Identifier 2017-NE-23-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact with FAA personnel concerning this proposed AD.

Discussion

The European Aviation Safety Agency (EASA), which is the Technical Agent for the Member States of the European Community, has issued EASA AD 2016-0163, dated August 10, 2016 (referred to hereafter as “the MCAI”), to correct an unsafe condition for the specified products. The MCAI states:

Cases were reported by operators of finding safety belt worn out at the attachment to the cabin attendant seat. This kind of belt damage is due to chafing between the belt and the surrounding metal lap belt fitting of the cabin attendant seat. This condition, if not detected and corrected, could lead to failure of the attendant seat to perform its intended function, possibly resulting in injury to the seat occupant. Prompted by these occurrences, Zodiac Seats France issued Service Bulletin (SB) No. 537-25-003, providing instructions to modify the affected seats. For the reason described above, this AD requires a modification of the seat pan shaft by installing new seat pan spacers, and subsequent re-identification with a new P/N.

You may obtain further information by examining the MCAI in the AD docket on the Internet at http://www.regulations.gov by searching for and locating Docket No. FAA-2017-0688.

Related Service Information Under 1 CFR Part 51

We reviewed Zodiac Seats France Service Bulletin (SB) No. 537-25-003, Revision 1, dated August 29, 2016. The SB describes procedures for installing an anti-rotation device on the seat pan shaft to limit the rotation of the safety belt on ATR 42 and ATR 72 airplanes. We also reviewed Service Information Letter (SIL) 537-01, dated July 31, 2015. The SIL provides details to identify if the safety belt must be removed and replaced and provides instructions on safety belt storage to avoid this premature wear. This service information is reasonably available because the interested parties have access to it through their normal course of business or by the means identified in the ADDRESSES section.

FAA's Determination and Requirements of This Proposed AD

This product has been approved by EASA, and is approved for operation in the United States. Pursuant to our bilateral agreement with the European Community, EASA has notified us of the unsafe condition described in the MCAI and service information referenced above. We are proposing this AD because we evaluated all information provided by EASA and determined the unsafe condition exists and is likely to exist or develop on other products of the same type design. This proposed AD would require inspecting, modifying, and re-marking certain cabin attendant seats.

Costs of Compliance

We estimate that this proposed AD affects 55 seat assemblies installed on, but not limited to, ATR 42 and ATR 72 airplanes of U.S. registry.

We estimate the following costs to comply with this proposed AD:

Estimated Costs
Action | Labor cost | Parts cost | Cost per product | Cost on U.S. operators
Seat inspection and modification | 0.5 work-hours × $85 per hour = $42.50 | $300 | $342.50 | $18,837.50

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines and propellers, and associated appliances to the Manager, Engine and Propeller Standards Branch, Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Zodiac Seats France (formerly SICMA Aero Seat): Docket No. FAA-2017-0688; Product Identifier 2017-NE-23-AD.

(a) Comments Due Date

We must receive comments by January 25, 2018.

(b) Affected ADs

None.

(c) Applicability

This AD applies to all Zodiac Seats France cabin attendant seats, 537 series, part numbers 53701-( )( )-( )( )( ).

These appliances are installed on, but not limited to, ATR 42 and ATR 72 airplanes of U.S. registry.

(d) Subject

Joint Aircraft System Component (JASC) 2500 Code, Cabin Equipment/Furnishings.

(e) Reason

This AD was prompted by operator reports that safety belt wear was found at the attachment to the cabin attendant seat. We are issuing this AD to prevent failure of these attendant seats.

(f) Compliance

Comply with this AD within the compliance times specified, unless already done.

Within 720 flight cycles after the effective date of this AD, inspect safety belt webbing, modify and re-mark each affected cabin attendant seat using sections (2)(A) through (2)(B) of Zodiac Seats France Service Bulletin (SB) No. 537-25-003, Revision 1, dated August 29, 2016 and Zodiac Seats France Service Information Letter 537-01, dated July 31, 2015.

(g) Installation Prohibition

After the effective date of this AD, do not install any affected cabin attendant seat on any aircraft.

(h) Alternative Methods of Compliance (AMOCs)

(1) The Manager, FAA, Boston ACO Branch, Compliance and Airworthiness Division, has the authority to approve AMOCs for this AD, if requested using the procedures found in 14 CFR 39.19. In accordance with 14 CFR 39.19, send your request to your principal inspector or local Flight Standards District Office, as appropriate. If sending information directly to the manager of the Boston ACO Branch, send it to the attention of the person identified in paragraph (i)(1) of this AD. You may email your request to: 9-ane-boston-aco-amoc-requests@faa.gov.

(2) Before using any approved AMOC, notify your appropriate principal inspector, or lacking a principal inspector, the manager of the local flight standards district office/certificate holding district office.

(i) Related Information

(1) For more information about this AD, contact Dorie Resnik, Aerospace Engineer, FAA, Boston ACO Branch, Compliance and Airworthiness Division, 1200 District Avenue, Burlington, MA 01803; phone: 781-238-7693; fax: 781-238-7199; email: dorie.resnik@faa.gov.

(2) Refer to MCAI European Aviation Safety Agency AD 2016-0163, dated August 10, 2016, for more information. You may examine the MCAI in the AD docket on the Internet at http://www.regulations.gov by searching for and locating it in Docket No. FAA-2017-0688.

(3) Zodiac Seats France SB No. 537-25-003, Revision 1, dated August 29, 2016, and Zodiac Seats France Service Information Letter 537-01, dated July 31, 2015 can be obtained from Zodiac Seats France, using the contact information in paragraph (i)(4) of this proposed AD.

(4) For service information identified in this proposed AD, contact Zodiac Seats France, Rue Robert Marechal Senior B.P. 69, 36100 Issoudun, France; phone: +33 (0) 9 70 83 08 30; fax: +33 (0) 2 54 03 39 00; email: zs.tac@zodiacaerospace.com; Internet: http://www.services.zodiacaerospace.com.

(5) You may view this referenced service information at the FAA, Engine and Propeller Standards Branch, Policy and Innovation Division, 1200 District Avenue, Burlington, MA. For information on the availability of this material at the FAA, call 781-238-7125.

Issued in Burlington, Massachusetts, on December 5, 2017.
Robert J. Ganley,
Manager, Engine and Propeller Standards Branch, Aircraft Certification Service.

[FR Doc. 2017-26571 Filed 12-8-17; 8:45 am]

BILLING CODE 4910-13-P